DEPARTMENT OF ENERGY

Federal Energy Regulatory Commission

[Docket Nos. RP00-327-005, RP00-604-005]

Columbia Gas Transmission Corporation; Notice of Compliance Filing

August 20, 2003.

Take notice that on August 14, 2003, Columbia Gas Transmission Corporation (Columbia) tendered for filing as FERC Gas Tariff, Second Revised Volume No. 1, the tariff sheets listed on Appendix A to the filing, bearing a proposed effective date of September 1, 2003, and tariff sheets listed on Appendix B to the filing, bearing a proposed effective date of April 1, 2004.

Columbia states it is making this filing in compliance with the Commission's July 30, 2003, Order in the above-referenced dockets. In the July 30 Order, the Commission held that Columbia's August 19, 2002, filing to comply with the Commission's July 19, 2002, order on Columbia's compliance with Order Nos. 637, 587-G, and 587-L generally complied with the requirements of those Orders. Columbia states however, the Commission required that Columbia make certain compliance changes by filing actual tariff sheets within 15 days of the date of issuance of the July 30 Order. The Commission directed Columbia that those tariff sheets should have a September 1, 2003, effective date. Columbia states that in addition, the Commission identified other compliance changes that were to have an effective date of April 1, 2004. Columbia further states that these revised tariff sheets reflect the changes required by the Commission in the July 30 Order.

Columbia states that copies of its filing have been mailed to all firm customers, interruptible customers and affected state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 26, 2003.

Magalie R. Salas,
Secretary.

[FR Doc. 03-21890 Filed 8-26-03; 8:45 am]

BILLING CODE 6717-01-P